CONSUMER PRODUCT SAFETY COMMISSION

[Docket No. CPSC-2009-0092]

Proposed Extension of Approval of Information Collection; Comment Request—Clothing Textiles, Vinyl Plastic Film

AGENCY: Consumer Product Safety Commission.

ACTION: Notice.

SUMMARY: As required by the Paperwork Reduction Act of 1995, the Consumer Product Safety Commission (CPSC or Commission) invites comments on a proposed request for extension of approval of a collection of information from manufacturers and importers of clothing, textiles and related materials intended for use in clothing under the Standard for the Flammability of Clothing Textiles and the Standard for the Flammability of Vinyl Plastic Film. These regulations establish requirements for testing and recordkeeping for manufacturers and importers who furnish guaranties for products subject to these standards. The Office of Management and Budget (OMB) previously approved the collection of information under control number 3041-0024. OMB's most recent extension of approval will expire on August 31, 2023. The CPSC will consider all comments received in response to this notice before requesting an extension of approval of this collection of information from OMB.

DATES: The Office of the Secretary must receive comments not later than August 21, 2023.

ADDRESSES: You may submit comments, identified by Docket No. CPSC-2009-0092, by any of the following methods:

Electronic Submissions: CPSC encourages you to submit electronic comments to the Federal eRulemaking Portal at: https://www.regulations.gov. Follow the instructions for submitting comments. CPSC typically does not accept comments submitted by electronic mail (email), except as described below.

Mail/Hand Delivery/Courier/Confidential Written Submissions: Submit comments by mail, hand delivery, or courier to: Office of the Secretary, Consumer Product Safety Commission, 4330 East-West Highway, Bethesda, MD 20814; telephone: (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to: https://www.regulations.gov. Do not submit through this website: confidential business information, trade secret information, or other sensitive or protected information that you do not want to be available to the public. If you wish to submit such information, please submit it according to the instructions for mail/hand delivery/courier/confidential written submissions.

Docket: For access to the docket to read background documents or comments received, go to: https://www.regulations.gov; insert the docket number, CPSC-2009-0092, into the “Search” box; and follow the prompts.

FOR FURTHER INFORMATION CONTACT: Cynthia Gillham, Consumer Product Safety Commission, 4330 East-West Highway, Bethesda, MD 20814; (301) 504-7791, or by email to: cgillham@cpsc.gov.

SUPPLEMENTARY INFORMATION:

A. Background

The Commission has promulgated several standards under section 4 of the Flammable Fabrics Act (FFA; 15 U.S.C. 1193) to prohibit the use of dangerously flammable textiles and related materials in wearing apparel. Clothing and fabrics intended for use in clothing (except children's sleepwear in sizes 0 through 14) are subject to the Standard for the Flammability of Clothing Textiles (16 CFR part 1610). Clothing made from vinyl plastic film and vinyl plastic film intended for use in clothing (except children's sleepwear in sizes 0 through 14) is subject to the Standard for the Flammability of Vinyl Plastic Film (16 CFR part 1611). This standard prescribes a test to ensure that articles of wearing apparel, and fabrics and film intended for use in wearing apparel, are not dangerously flammable because of rapid and intense burning. (Children's sleepwear and fabrics and related materials intended for use in children's sleepwear in sizes 0 through 14 are subject to other, more stringent flammability standards codified at 16 CFR parts 1615 and 1616.)

Section 8 of the FFA (15 U.S.C. 1197) provides that a person who receives a guaranty in good faith that a product complies with an applicable flammability standard is not subject to criminal prosecution for a violation of the FFA resulting from the sale of any product covered by the guaranty. The CPSC uses the information compiled and maintained by firms that issue these guaranties to help protect the public from risks of injury or death associated with flammable clothing and fabrics and vinyl film intended for use in clothing. In addition, the information helps the CPSC arrange corrective actions if any products covered by a guaranty fail to comply with the applicable standard in a manner that creates a substantial risk of injury or death to the public. Section 8 of the FFA requires that a guaranty must be based on “reasonable and representative tests.” The testing and recordkeeping requirements for firms that issue guaranties are set forth under 16 CFR part 1610, subpart B, and 16 CFR part 1611, subpart B.

B. Burden

The CPSC estimates that approximately 1,000 firms issue guaranties. Although the CPSC's records indicate that approximately 675 firms have filed continuing guaranties with the Commission, staff believes additional guaranties may be issued that are not filed with the Commission, because continuing guaranties are not required to be filed with the Commission. Accordingly, staff has rounded the estimated number of firms upwards to 1,000 to account for those additional guaranties. Staff has estimated the burden hours based on an estimate of the time for each firm to conduct testing, issue guaranties, and establish and maintain associated records.

• Burden Hours per Firm—An estimated 5 hours for each test series per firm, using either the test and conditioning procedures in the regulations or alternate methods. Although many firms are exempt from testing to support guaranties under 16 CFR 1610.1(d), CPSC staff does not know the proportion of those firms that are testing versus those that are exempt. Thus, staff has included testing for all firms in the burden estimates.

• Guaranties Issued per Firm—On average, 20 new guaranties are issued per firm per year for new fabrics or garments.

• Estimated Annual Testing Time per Firm—100 hours per firm (5 hours for testing × 20 guaranties issued = 100 hours per firm).

• Estimated Annual Recordkeeping per Firm—1 hour to create, record, and enter test data into a computerized dataset; 20 minutes (= 0.33 hours) for annual review/removal of records; 20 minutes (= 0.33 hours) to respond to one CPSC records request per year; for a total of 1.7 recordkeeping hours per firm (1 hour + .33 hours + .33 hours = 1.7 hours per firm).

• Total Estimated Annual Burden Hours per Firm—100 hours estimated annual testing time per firm + 1.7 estimated annual recordkeeping hours per firm = 101.7 hours per firm.

• Total Estimated Annual Industry Burden Hours—101.7 hours per firm × 1,000 firms issuing guaranties =101,700 industry burden hours. The total annual industry burden imposed by the flammability standards for clothing textiles and vinyl plastic film and enforcement regulations on manufacturers and importers of garments, fabrics, and related materials is estimated to be approximately 101,700 hours (101.6 hours per firm × 1,000 firms).

• Total Annual Industry Cost —The hourly wage for the testing and recordkeeping required by the standards is approximately $72.91 (for management, professional, and related occupations in goods-producing industries, Bureau of Labor Statistics, September 2022), for an estimated annual cost to the industry of approximately $7.4 million (101,700 × $72.91 per hour = $7,414,947).

C. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Alberta E. Mills,
Secretary, Consumer Product Safety Commission.

[FR Doc. 2023-13051 Filed 6-16-23; 8:45 am]

BILLING CODE 6355-01-P